NATIONAL SCIENCE FOUNDATION

Advisory Committee For Biological Sciences; Notice of Meeting

In accordance with the Federal Advisory Committee Act (Pub. L., 92-463, as amended), the National Science Foundation announces the following meeting:

Name: Biological Sciences Advisory Committee (#1110).

Date and Time: December 15, 2011; 8 a.m. to 5 p.m. December 16, 2011; 8:30 a.m. to 5 p.m.

Place: National Science Foundation, 4201 Wilson Blvd., Arlington, VA 22230.

Type of Meeting: Open.

Contact Person: Chuck Liarakos, National Science Foundation, Room 605, 4201 Wilson Boulevard, Arlington, VA 22230 Tel No.: (703) 292-8400.

Purpose of Meeting: The Advisory Committee for BIO provides advice, recommendations, and oversight concerning major program emphases, directions, and goals for the research-related activities of the divisions that make up BIO.

Agenda: Items on the agenda include approval of the Committee of Visitors reports for the Divisions of Molecular and Cellular Biosciences and Integrated Organismal Systems, reports about NSF efforts to improve the merit review process, and discussions of fundamental biological research that is the basis for the 21st century bio-economy and the undergraduate and graduate biology education pipeline.

Dated: November 21, 2011.
Susanne Bolton,
Committee Management Officer.

[FR Doc. 2011-30367 Filed 11-23-11; 8:45 am]

BILLING CODE 7555-01-P